DEPARTMENT OF HEALTH AND HUMAN SERVICES

Centers for Disease Control and Prevention

[30 DAY-37-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project

National Hospital Discharge Survey (OMB No. 0920-0212)—Extension—National Center for Health Statistics (NCHS), Centers for Disease Control and Prevention (CDC). The National Hospital Discharge Survey (NHDS), which has been conducted continuously by the National Center for Health Statistics, CDC, since 1965, is the principal source of data on in-patient utilization of short-stay, non-Federal hospitals and is the only annual source of nationally representative estimates on the characteristics of discharges, the lengths of stay, diagnoses, surgical and non-surgical procedures, and the patterns of use of care in hospitals in various regions of the country. It is the benchmark against which special programmatic data sources are compared. Data collected through the NHDS are essential for evaluating health status of the population, for the planning of programs and policy to elevate the health status of the Nation, for studying morbidity trends, and for research activities in the health field. NHDS data have been used extensively in the development and monitoring of goals for the Year 2000 and 2010 Health Objectives. In addition, NHDS data provide annual updates for numerous tables in the Congressionally-mandated NCHS report, Health, United States. Data for the NHDS are collected annually on approximately 300,000 discharges from a nationally representative sample of noninstitutional hospitals, exclusive of Federal, military and Veterans' Administration hospitals. The data items collected are the basic core of variables contained in the Uniform Hospital Discharge Data Set (UHDDS) in addition to two data items (admission type and source) which are identical to those needed for billing of in-patient services for Medicare patients. Data for approximately forty-five percent of the responding hospitals are abstracted from medical records while the remainder of the hospitals supply data through commercial abstract service organizations, state data systems, in-house tapes or printouts. The estimated annual burden for this data collection is 2,653 hours.

Form | Number of Respondents | Number of Responses/Respondents | Average Burden/Response (in hours)
Medical record abstracts—Primary Procedure Hospitals | 68 | 250 | 5/60
Medical record abstracts—Alternate Procedure Hospitals | 130 | 250 | 1/60
Medical record abstracts—In-house tape or printout hospitals | 80 | 12 | 12/60
Update form (abstract service hospitals) | 156 | 1 | 2/60
Induction form | 15 | 1 | 2
Inpatient Drug Study | 50 | 22 | 20/60
Non-response Study | 50 | 1 | 2

Dated: July 29, 2002.
Nancy Cheal,
Acting Associate Director for Policy, Planning and Evaluation, Centers for Disease Control and Prevention.

[FR Doc. 02-19514 Filed 8-1-02; 8:45 am]

BILLING CODE 4163-18-P